NUCLEAR REGULATORY COMMISSION

Sunshine Act Meeting

DATE: Weeks of October 11, 18, 25, November 1, 8, 15, 2004

PLACE: Commissioners' Conference Room, 11555 Rockville Pike, Rockville, Maryland

STATUS: Public and Closed

MATTERS TO BE CONSIDERED:

Week of October 11, 2004

9:30 a.m. Briefing on Decommissioning Activities and Status (Public Meeting) (Contact: Claudia Craig, 30-415-7276)

This meeting will be webcast live at the Web address www.nrc.gov.

1:30 p.m. Discussion of Intragovernmental Issues (Closed—Ex. 1 & 9)

Week of October 18, 2004-Tentative

There are no meetings scheduled for the Week of October 18, 2004

Week of October 25, 2004—Tentative

There are no meeting scheduled for the Week of October 25, 2004

Week of November 1, 2004—Tentative

There are no meetings scheduled for the Week of November 1, 2004

Week of November 8, 2004—Tentative

Monday, November 8, 2004

2 p.m. Briefing on Plant Aging and Material Degradation Issues (Public Meeting) (Contact: Steve Koenick, 301-415-1239)

This meeting will be webcast live at the Web address www.nrc.gov.

Tuesday, November 9, 2004

9:30 a.m. Briefing on Reactor Safety and Licensing Activities (Public Meeting) (Contact: Steve Koenick, 301-415-1239)

This meeting will be webcast live at the Web address www.nrc.gov.

Week of November 15, 2004—Tentative

Tuesday, November 16, 2004

9:30 a.m. Briefing on Threat Environment Assessment (Closed—Ex. 1)

Wednesday, November 17, 2004

9:30 a.m. Discussion of Security Issues (Closed—Ex. 1)

* The schedule for Commission meetings is subject to change on short notice. To verify the status of meetings call (recording)—(301) 415-1292. Contact person for more information: Dave Gamberoni, (301) 415-1651.

* * * * *

The NRC Commission Meeting Schedule can be found on the Internet at: www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-4152100, or by e-mail at aks@nrc.gov. Determinations on requests for reasonable accommodation will be made on a cast-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

October 7, 2004.
Dave Gamberoni,
Office of the Secretary.

[FR Doc. 04-23003 Filed 10-8-04; 9:50 am]

BILLING CODE 7590-01-M